DEPARTMENT OF JUSTICE

Notice of Lodging of Consent Decree Under the Clean Air Act

Under 28 CFR 50.7, notice is hereby given that on January 12, 2009, a proposed Consent Decree (“Consent Decree”) in the case of United States, et al. v. Chemtrade Logistics (US), Inc., et al., Civil Action No. 3:09-cv-00067, was lodged with the United States District Court for the Northern District of Ohio.

In a complaint that was filed simultaneously with the Consent Decree, the United States, the State of Louisiana, the State of Ohio, and the Oklahoma Department of Environmental Quality (“ODEQ”) sought injunctive relief and civil penalties against Chemtrade Logistics (US), Inc., Chemtrade Refinery Services Inc., and Marsulex Inc. (collectively “Defendants”), pursuant to Sections 113(b) and 304(a) of the Clean Air Act (“CAA”), 42 U.S.C. 7413(b), 7604(a), for alleged violations of the standards of performance for new stationary sources, 42 U.S.C. 7411, also known as New Source Performance Standards (“NSPS”); preconstruction requirements, 42 U.S.C. 7470-92, 7501-7509a, also known as Prevention of Significant Deterioration (“PSD”) and Nonattainment New Source Review (“Nonattainment NSR”) requirements; and permit requirements, 42 U.S.C. 7503, also known as Title V requirements. The claims relate to six sulfuric acid manufacturing facilities located in Cairo, Ohio; Oregon, Ohio; Beaumont, Texas; Shreveport, Louisiana; Tulsa, Oklahoma; and Riverton, Wyoming.

The Consent Decree requires the Defendants to pay a civil penalty of $700,000 of which $460,000 (66 percent) will be paid to the United States and the rest will be divided among the State of Louisiana, the State of Ohio, and the ODEQ. The Consent Decree further requires Defendants, at all six facilities, to meet certain emission limits (for sulfur dioxide and acid mist) and to comply with applicable NSPS requirements (including performance testing and monitoring). The Northern Arapaho Tribe also joined the Consent Decree because the Riverton, Wyoming facility is located on tribal land.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al. v. Chemtrade Logistics, et al., D.J. Ref. No. 90-5-2-1-06944/1.

The Consent Decree may be examined at the Office of the United States Attorney, 801 West Superior Ave., Suite 400, Cleveland, OH 44113, and at U.S. EPA Region 5, 77 W. Jackson St., Chicago, IL 60604. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $ 34.75 (25 cents per page reproduction cost) payable to the U.S. Treasury, or, if by e-mail or fax, forward a check in that amount to the Consent Decree Library at the stated address.

William D. Brighton,
Assistant Section Chief, Environmental Enforcement Section, Environment and Natural Resources Division.

[FR Doc. E9-967 Filed 1-16-09; 8:45 am]

BILLING CODE 4410-15-P